DEPARTMENT OF HOMELAND SECURITY

U.S. Customs and Border Protection

Notice of Revocation of Customs Broker License

AGENCY: U.S. Customs and Border Protection, U.S. Department of Homeland Security.

ACTION: General notice.

SUMMARY: Pursuant to section 641 of the Tariff Act of 1930, as amended, (19 U.S.C. 1641) and the Customs Regulations (19 CFR 111.51), the following Customs broker license is canceled with prejudice.

Name | License No. | Issuing port
Miguel A. Delgado | 11634 | Miami.

Dated: December 22, 2008.
Daniel Baldwin,
Assistant Commissioner, Office of International Trade.

[FR Doc. E8-31230 Filed 12-31-08; 8:45 am]

BILLING CODE 9111-14-P